DEPARTMENT OF COMMERCE

International Trade Administration

[A-570-930, C-570-931]

Circular Welded Austenitic Stainless Pressure Pipe From the People's Republic of China: Continuation of Antidumping Duty Order and Countervailing Duty Order

AGENCY: Enforcement and Compliance, International Trade Administration, Department of Commerce.

SUMMARY: As a result of the determinations by the Department of Commerce (Commerce) and the U.S. International Trade Commission (ITC) that revocation of the antidumping duty (AD) order and countervailing duty (CVD) order on circular welded austenitic stainless pressure pipe (WSPP) from the People's Republic of China (China) would likely lead to a continuation or recurrence of dumping, countervailable subsidies, and material injury to an industry in the United States, Commerce is publishing a notice of continuation of the AD order and the CVD order.

DATES: Applicable December 6, 2019.

FOR FURTHER INFORMATION CONTACT: Eric B. Greynolds, AD/CVD Operations, Office III, and Thomas Hanna, AD/CVD Operations, Office IV, Enforcement and Compliance, International Trade Administration, U.S. Department of Commerce, 1401 Constitution Avenue NW, Washington, DC 20230; telephone: (202) 482-6071 and (202) 482-0835, respectively.

SUPPLEMENTARY INFORMATION:

Background

On March 17, 2009, Commerce published in the Federal Register the AD order on WSSP from China.¹ On March 19, 2009, Commerce published in the Federal Register the CVD order on WSSP from China.² On June 4, 2019, pursuant to section 751(c) of the Tariff Act of 1930, as amended (the Act), Commerce published the initiation of the second sunset reviews of the Orders ³ and the ITC instituted its review of the Orders.⁴

¹ See Antidumping Duty Order: Circular Welded Austenitic Stainless Pressure Pipe from the People's Republic of China, 74 FR 11351 (March 17, 2009) (AD Order).

² See Circular Welded Austenitic Stainless Pressure Pipe from the People's Republic of China: Countervailing Duty Order, 74 FR 11712 (March 19, 2009) (CVD Order).

³ The AD Order and CVD Order are collectively referred to as the Orders.

⁴ See Initiation of Five-Year (Sunset) Reviews, 84 FR 25741 (June 4, 2019); see also Welded Stainless Steel Pressure Pipe from China, Malaysia, Thailand, and Vietnam; Institution of Five-Year Reviews, 84 FR 25567 (June 3, 2019).

On June 13, 2019, Commerce received notices of intent to participate in the sunset reviews from Bristol Metals, LLC, Felker Brothers Corporation, and Webco Industries, Inc. within the deadline specified in 19 CFR 351.218(d)(1)(i).⁵ On June 18, 2019, Commerce also received a notice of intent to participate in the AD and CVD sunset review from Primus Pipe.⁶ The domestic interested parties and Primus Pipe claimed interested party status under section 771(9)(C) of the Act as manufacturers in the United States of the domestic like product.⁷

⁵ See Domestic Interested Parties' Letters, “Welded Stainless Steel Pressure Pipe from China: Notice of Intent to Participate,” dated June 13, 2019 (AD Notice to Participate); and “Welded Stainless Steel Pressure Pipe from China: Notice of Intent to Participate,” dated June 13, 2019 (CVD Notice to Participate).

⁶ See Primus Pipe's Letters, “Circular Welded Austenitic, Stainless Pressure Pipe from China: Notice of Intent to Participate,” dated June 18, 2019 (Primus Pipe's AD Notice to Participate); and “Circular Welded Austenitic, Stainless Pressure Pipe from China: Notice of Intent to Participate,” dated June 18, 2019 (Primus Pipe's CVD Notice to Participate).

⁷ See AD Notice to Participate at 2; Primus Pipe's AD Notice to Participate at 2; CVD Notice to Participate at 2; and Primus Pipe's CVD Notice to Participate at 2.

On June 28, 2019, Commerce received complete and adequate substantive responses from the domestic interested parties filed within the 30-day deadline specified in 19 CFR 351.218(d)(3)(i).⁸ On July 5, 2019, Primus Pipe expressed its support for the substantive response filed by the domestic interested parties and incorporated them by reference.⁹ Commerce received no substantive response from respondent interested parties. Pursuant to section 751(c)(3)(B) of the Act, Commerce conducted expedited (120-day) sunset reviews of the Orders.¹⁰ On September 6, 2019, the ITC determined to conduct an expedited five-year review of the Orders.¹¹

⁸ See Domestic Interested Parties' Letters, “Circular Welded Austenitic Stainless Pressure Pipe from the People's Republic of China, Second Review: Substantive Response to Notice of Initiation,” dated June 28, 2019; and “Circular Welded Austenitic Stainless Pressure Pipe from the People's Republic of China, Second Review: Substantive Response to Notice of Initiation,” dated June 28, 2019.

⁹ See Primus Pipe's Letters, “Welded Stainless Steel Pipe Sunset Review: 2nd Review for China AD/CVD; 1st Review for Vietnam, Thailand and Malaysia; Substantive Response to Notice of Initiation,” dated July 5, 2019; and “Welded Stainless Steel Pipe Sunset Review: 2nd Review for China AD/CVD; 1st Review for Vietnam, Thailand and Malaysia; Substantive Response to Notice of Initiation,” dated July 5, 2019.

¹⁰ See Letter from Erin Begnal, Director, AD/CVD Operations, Enforcement and Compliance, U.S. Department of Commerce, to Nannette Christ, Director, Office of Investigations, July 29, 2019.

¹¹ See Explanation of Commission Determinations on Adequacy, EDIS Doc. 691660 (September 6, 2019).

As a result of its reviews, Commerce determined, pursuant to sections 751(c)(1) and 752(b) and (c) of the Act, that revocation of the Orders on WSSP from China would likely lead to continuation or recurrence of dumping or countervailable subsidies. Commerce, therefore, notified the ITC of the magnitude of the margins of dumping and net countervailable subsidy rates likely to prevail should these Orders be revoked, in accordance with sections 752(b)(3) and (c)(3) of the Act.¹²

¹² See Circular Welded Austenitic Stainless Pressure Pipe From the People's Republic of China: Final Results of the Expedited Second Sunset Review of the Antidumping Duty Order, 84 FR 52462 (October 2, 2019); see also Circular Welded Austenitic Stainless Pressure Pipe From the People's Republic of China: Final Results of the Expedited Second Sunset Review of the Countervailing Duty Order, 84 FR 52460 (October 2, 2019).

On November 25, 2019, the ITC published its determination that revocation of the Orders would likely lead to a continuation or recurrence of material injury to an industry in the United States within a reasonably foreseeable time, pursuant to sections 751(c) and 752(a) of the Act.¹³

¹³ See Welded Stainless Steel Pressure Pipe from China, Malaysia, Thailand, and Vietnam; Determination, 84 FR 64922 (November 25, 2019); see also Welded Stainless Steel Pressure Pipe from China, Malaysia, Thailand, and Vietnam: Investigation Nos. 731-TA-1210-1212 and 701-TA-454 and 731-TA-1144 (Second Review) (November 2019).

Scope of the Orders

The merchandise covered by these orders is circular welded austenitic stainless pressure pipe not greater than 14 inches in outside diameter. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications.

Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A-269, ASTM A-270 or comparable domestic or foreign specifications.

The subject imports are normally classified in subheadings 7306.40.5005; 7306.40.5040, 7306.40.5062, 7306.40.5064, and 7306.40.5085 of the Harmonized Tariff Schedule of the United States (HTSUS). They may also enter under HTSUS subheadings 7306.40.1010; 7306.40.1015; 7306.40.5042, 7306.40.5044, 7306.40.5080, and 7306.40.5090. The HTSUS subheadings are provided for convenience and customs purposes only, the written description of the scope of these orders is dispositive.

Continuation of the Orders

As a result of the determinations by Commerce and the ITC that revocation of the Orders would likely lead to a continuation or recurrence of dumping, countervailable subsidies, and material injury to an industry in the United States, pursuant to section 751(d)(2) of the Act and 19 CFR 351.218(a), Commerce hereby orders the continuation of the Orders on WSSP from China. U.S. Customs and Border Protection will continue to collect AD and CVD cash deposits at the rates in effect at the time of entry for all imports of subject merchandise.

The effective date of the continuation of the Orders will be the date of publication in the Federal Register of this notice of continuation. Pursuant to section 751(c)(2) of the Act and 19 CFR 351.218(c)(2), Commerce intends to initiate the next five-year (sunset) reviews of these Orders not later than 30 days prior to the fifth anniversary of the effective date of continuation.

Administrative Protective Order (APO)

This notice also serves as the only reminder to parties subject to APO of their responsibility concerning the return, destruction, or conversion to judicial protective order of proprietary information disclosed under APO in accordance with 19 CFR 351.305(a)(3). Failure to comply is a violation of the APO which may be subject to sanctions.

Notification to Interested Parties

These five-year sunset reviews and this notice are in accordance with section 751(c) of the Act and published pursuant to section 777(i)(1) of the Act and 19 CFR 351.218(f)(4).

Dated: December 2, 2019.
Jeffrey I. Kessler,
Assistant Secretary for Enforcement and Compliance.

[FR Doc. 2019-26359 Filed 12-5-19; 8:45 am]

BILLING CODE 3510-DS-P